COMMISSION ON CIVIL RIGHTS

Notice of Public Meetings of the Virginia Advisory Committee

AGENCY: U.S. Commission on Civil Rights.

ACTION: Announcement of meeting.

SUMMARY: Notice is hereby given, pursuant to the provisions of the rules and regulations of the U.S. Commission on Civil Rights (Commission) and the Federal Advisory Committee Act that the Virginia Advisory Committee (Committee) will hold a virtual (online) meeting Thursday, February 18, 2021 at 3:00 p.m. Eastern Time. The purpose of the meeting is to discuss the proposal on the Committee's forthcoming policing project.

DATES: The meeting will be held on Thursday, February 18, 2021, at 3:00 p.m. Eastern Time.

FOR FURTHER INFORMATION CONTACT: Melissa Wojnaroski, DFO, at mwojnaroski@usccr.gov or (202) 618-4158.

SUPPLEMENTARY INFORMATION:

Public Access

• Online: (audio/visual) Register online: https://bit.ly/3nK85I2

• Phone: (audio only) 800-360-9505 USA Toll Free; Access code: 199 832 9662

Members of the public may listen to this discussion through the above call-in number or join online via the above web registration link. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Individuals who are deaf, deafblind or hard of hearing may also follow the proceedings by first calling the Federal Relay Service at 1-800-877-8339 and providing the Service with the conference call number and conference ID number.

Members of the public are entitled to submit written comments; the comments must be received in the regional office within 30 days following the meeting. Written comments may be emailed to Melissa Wojnaroski at mwojnaroski@usccr.gov.

Records generated from this meeting may be inspected and reproduced at the Regional Programs Unit Office, as they become available, both before and after the meeting. Records of the meeting will be available via www.facadatabase.gov under the Commission on Civil Rights, Virginia Advisory Committee link. Persons interested in the work of this Committee are directed to the Commission's website, http://www.usccr.gov, or may contact the Regional Programs Unit at the above email or street address.

Agenda

I. Welcome & Roll Call

II. Civil Rights Discussion: Policing in Virginia

III. Committee Q & A

IV. Public Comment

VI. Adjournment

Dated: January 14, 2021.
David Mussatt,
Supervisory Chief, Regional Programs Unit.

[FR Doc. 2021-01291 Filed 1-21-21; 8:45 am]

BILLING CODE P